DEPARTMENT OF TRANSPORTATION

Federal Aviation Administration

14 CFR Part 39

[Docket No. FAA-2007-28943; Directorate Identifier 2007-NM-011-AD; Amendment 39-15295; AD 2007-25-13]

RIN 2120-AA64

Airworthiness Directives; Boeing Model 767-300F Series Airplanes

AGENCY: Federal Aviation Administration (FAA), Department of Transportation (DOT).

ACTION: Final rule.

SUMMARY: The FAA is adopting a new airworthiness directive (AD) for certain Boeing Model 767-300F series airplanes. This AD requires replacing the rotomolded duct(s) of the mix manifold system with new duct(s). This AD results from a report of failures of the duct joint seal of the mix manifold system. We are issuing this AD to prevent air conditioning leakage into the mix manifold bay. Such leakage could decrease the air flow to the flight compartment and main cabin or could allow smoke into the flight compartment in the event of a fire in the main cabin or forward cargo compartment.

DATES: This AD becomes effective January 14, 2008.

The Director of the Federal Register approved the incorporation by reference of a certain publication listed in the AD as of January 14, 2008.

ADDRESSES: For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Jeffrey S. Palmer, Aerospace Engineer, Cabin Safety and Environmental Systems Branch, ANM-150S, FAA, Seattle Aircraft Certification Office, 1601 Lind Avenue, SW., Renton, Washington 98057-3356; telephone (425) 917-6481; fax (425) 917-6590.

SUPPLEMENTARY INFORMATION:

Discussion

The FAA issued a notice of proposed rulemaking (NPRM) to amend 14 CFR part 39 to include an AD that would apply to certain Boeing Model 767-300F series airplanes. That NPRM was published in the Federal Register on August 16, 2007 (72 FR 45980). That NPRM proposed to require replacing the rotomolded duct(s) of the mix manifold system with new duct(s).

Comments

We provided the public the opportunity to participate in the development of this AD. We have considered the comment received. Boeing supports the NPRM.

Conclusion

We have carefully reviewed the available data, including the comment received, and determined that air safety and the public interest require adopting the AD as proposed.

Costs of Compliance

There are about 40 airplanes of the affected design in the worldwide fleet. This AD affects about 32 airplanes of U.S. registry. The required actions will take about 2 or 8 work hours per airplane, at an average labor rate of $80 per work hour. Required parts will cost about $4,123 or $42,825 per airplane. Based on these figures, the estimated cost of the AD for U.S. operators is $4,283 or $43,465 per airplane. (The estimated work hours and costs depend on the airplane configuration).

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-25-13 Boeing: Amendment 39-15295. Docket No. FAA-2007-28943; Directorate Identifier 2007-NM-011-AD.

Effective Date

(a) This AD becomes effective January 14, 2008.

Affected ADs

(b) None.

Applicability

(c) This AD applies to Boeing Model 767-300F series airplanes, certificated in any category; as identified in Boeing Special Attention Service Bulletin 767-21-0192, dated March 23, 2006.

Unsafe Condition

(d) This AD results from a report of failures of the duct joint seal of the mix manifold system. We are issuing this AD to prevent air conditioning leakage into the mix manifold bay. Such leakage could decrease the air flow to the flight compartment and main cabin or could allow smoke into the flight compartment in the event of a fire in the main cabin or forward cargo compartment.

Compliance

(e) You are responsible for having the actions required by this AD performed within the compliance times specified, unless the actions have already been done.

Replacement

(f) Within 36 months after the effective date of this AD, do the applicable action specified in Table 1 of this AD in accordance with the Accomplishment Instructions of Boeing Special Attention Service Bulletin 767-21-0192, dated March 23, 2006.

Table 1.—Replacement
For airplanes identified in the service bulletin as— | Do the following action—
(1) Group 1 airplanes | Replace the rotomolded duct between the transition duct of the right cooling pack and the mix manifold with a new duct made of aluminum.
(2) Group 2 airplanes | Replace the rotomolded ducts of the mix manifold system with new ducts made from Kevlar® and aluminum.

Alternative Methods of Compliance (AMOCs)

(g)(1) The Manager, Seattle Aircraft Certification Office, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(h) You must use Boeing Special Attention Service Bulletin 767-21-0192, dated March 23, 2006, to perform the actions that are required by this AD, unless the AD specifies otherwise. The Director of the Federal Register approved the incorporation by reference of this document in accordance with 5 U.S.C. 552(a) and 1 CFR part 51. Contact Boeing Commercial Airplanes, P.O. Box 3707, Seattle, Washington 98124-2207, for a copy of this service information. You may review copies at the FAA, Transport Airplane Directorate, 1601 Lind Avenue, SW., Renton, Washington; or at the National Archives and Records Administration (NARA). For information on the availability of this material at NARA, call 202-741-6030, or go to: http://www.archives.gov/federal_register/code_of_federal_regulations/ibr_locations.html.

Issued in Renton, Washington, on November 23, 2007.
Ali Bahrami,
Manager, Transport Airplane Directorate, Aircraft Certification Service.

[FR Doc. E7-23685 Filed 12-7-07; 8:45 am]

BILLING CODE 4910-13-P